DEPARTMENT OF DEFENSE

Office of the Secretary

[Transmittal Nos. 14-57]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-57 with attached transmittal, and policy justification.

Dated: November 26, 2014.
Aaron Siegel,
Alternate OSD Federal Register Liaison Officer, Department of Defense.

BILLING CODE 5001-06-P

BILLING CODE 5001-06-C

Transmittal No. 14-57

Notice of Proposed Issuance of Letter of Offer Pursuant to Section 36(b)(1) of the Arms Export Control Act, as Amended

(i) Prospective Purchaser: Greece

(ii) Total Estimated Value:

Major Defense Equipment * | $ 0 million
Other | $188 million
TOTAL | $188 million
* As defined in Section 47(6) of the Arms Export Control Act.

(iii) Description and Quantity or Quantities of Articles or Services under Consideration for Purchase: Provides for the continuation of sustainment support for the Hellenic Air Force's F-16 aircraft, which includes the Electronic Combat International Security Assistance Program; International Engine Management Program; F-16 Technical Coordination Program; and Aircraft Structural Integrity Program; aircraft hardware and software support; repair and return; spare and repair parts; publications and technical documentation; support equipment; minor modifications; U.S. government and contractor technical and engineering support services; and other related elements of logistics and program support.

(iv) Military Department: Air Force (QCH)

(v) Prior Related Cases, if any:

FMS Case QBY-$93M-14May04

FMS Case QCE-$130M-13Feb09

(vi) Sales Commission, Fee, etc., Paid, Offered, or Agreed to be Paid: None

(vii) Sensitivity of Technology Contained in the Defense Article or Defense Services Proposed to be Sold: None

(viii) Date Report Delivered to Congress: 17 Nov 14

POLICY JUSTIFICATION

Greece—F-16 Sustainment

The Government of Greece has requested the continuation of sustainment support for the Hellenic Air Force's F-16 aircraft, which includes the Electronic Combat International Security Assistance Program; International Engine Management Program; F-16 Technical Coordination Program; and Aircraft Structural Integrity Program; aircraft hardware and software support; repair and return; spare and repair parts; publications and technical documentation; support equipment; minor modifications; U.S. government and contractor technical and engineering support services; and other related elements of logistics and program support. The estimated cost is $188 million.

This proposed sale will contribute to the foreign policy and national security of the United States by helping to improve the security of a North Atlantic Treaty Organization (NATO) ally.

The Government of Greece needs this aircraft support to ensure its F-16 fleet is properly sustained and modernized to maintain interoperability with the United States and other NATO countries. The continued support and maintenance of Greece's F-16 fleet will ensure the effectiveness of its capabilities and ability to support future contributions to NATO operations.

The proposed sale of this support will not alter the basic military balance in the region.

The principal contractors will be Lockheed Martin in Ft Worth, Texas; and Northrup Grumman in Baltimore, Maryland. There are no known offset agreements proposed in connection with this potential sale.

Implementation of this proposed sale will not require the assignment of any additional U.S. Government or contractor representatives to Greece.

There will be no adverse impact on U.S. defense readiness as a result of this proposed sale.

[FR Doc. 2014-28341 Filed 12-1-14; 8:45 am]

BILLING CODE 5001-06-P